FEDERAL COMMUNICATIONS COMMISSION

47 CFR Part 73

[DA 01-806; MM Docket No. 99-141; RM-9339]

Radio Broadcasting Services; Monticello Arkansas, Bastrop, LA

AGENCY: Federal Communications Commission.

ACTION: Final rule.

SUMMARY: The Commission, at the request of Midway Broadcasting Company, succeeded in interest by Community Radio Network, Inc., licensee of Station KHBM-FM, Monticello, Arkansas, substitutes Channel 229C2 for Channel 229C3 at Monticello, Arkansas, and modifies its authorization accordingly. In addition, Channel 230A is substituted for Channel 230C3 at Bastrop, Louisiana, Channel 232A is deleted at Bastrop, and the authorization for Station KTRY-FM, Bastrop, is modified to operation on Channel 230A. See 64 FR 24565-6 (May 7, 1999). Channel 229C2 is allotted at Monticello at petitioner's requested site located 23.3 kilometers (14.5 miles) northeast of the community at coordinates 33-43-44 NL and 91-34-04 WL. Channel 230A is substituted for 232A and Channel 230C3 is deleted at Bastrop, Louisiana, and the license for Station KTRY(FM) is modified to specify Channel 230A at the station's existing site at coordinates 32-49-10 NL and 91-54-29 WL.

DATES: Effective June 14, 2001.

FOR FURTHER INFORMATION CONTACT: Victoria M. McCauley, Mass Media Bureau, (202) 418-2180.

SUPPLEMENTARY INFORMATION: This is a synopsis of the Commission's Report and Order, MM Docket No. 99-141, adopted March 21, 2001, and released March 30, 2001. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

PART 73—[AMENDED]

§ 73.202 [Amended]

2. Section 73.202(b), the Table of FM Allotments under Arkansas, is amended by removing Channel 229C3 and adding Channel 229C2 at Monticello.

3. Section 73.202(b), the Table of FM Allotments under Louisiana is amended by removing Channels 232A and 230C3 and adding Channel 230A at Bastrop.

Federal Communications Commission.
John A. Karousos,
Chief, Allocations Branch, Policy and Rules Division, Mass Media Bureau.

[FR Doc. 01-8840 Filed 4-10-01; 8:45 am]

BILLING CODE 6712-01-P